DEPARTMENT OF COMMERCE

National Oceanic and Atmospheric Administration

50 CFR Part 660

[Docket No. 130108020-3409-01]

RIN 0648-XC964

Fisheries Off West Coast States; Modifications of the West Coast Commercial and Recreational Salmon Fisheries; Inseason Actions #12 Through #34

AGENCY: National Marine Fisheries Service (NMFS), National Oceanic and Atmospheric Administration (NOAA), Commerce.

ACTION: Modification of fishing seasons; request for comments.

SUMMARY: NOAA Fisheries announces 23 inseason actions in the ocean salmon fisheries. These inseason actions modified the commercial and recreational salmon fisheries in the area from the U.S./Canada Border to the U.S./Mexico Border.

DATES: The effective dates for the inseason actions are set out in this document under the heading Inseason Actions. Comments will be accepted through December 11, 2013.

ADDRESSES: You may submit comments, identified by NOAA-NMFS-2012-0248, by any one of the following methods:

• Electronic Submissions: Submit all electronic public comments via the Federal eRulemaking Portal. Go to www.regulations.gov/#!docketDetail;D=NOAA-NMFS-2012-0248, click the “Comment Now!” icon, complete the required fields, and enter or attach your comments.

• Mail: William W. Stelle, Jr., Regional Administrator, West Coast Region, NMFS, 7600 Sand Point Way NE., Seattle, WA 98115-6349

• Fax: 206-526-6736, Attn: Peggy Mundy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peggy Mundy at 206-526-4323.

SUPPLEMENTARY INFORMATION:

Background

In the 2013 annual management measures for ocean salmon fisheries (78 FR 25865, May 3, 2013), NMFS announced the commercial and recreational fisheries in the area from the U.S./Canada Border to the U.S./Mexico Border, beginning May 1, 2013, and 2014 salmon seasons opening earlier than May 1, 2014. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions).

Management of the salmon fisheries is generally divided into two geographic areas: North of Cape Falcon (U.S./Canada Border to Cape Falcon, Oregon) and south of Cape Falcon (Cape Falcon, Oregon to the U.S./Mexico Border).

The fisheries affected by the inseason actions in this document are all based on quotas to manage impacts on specific salmon stocks that constrain fisheries to meet conservation objectives, annual catch limits (ACLs), and consultation standards for stocks listed under the Endangered Species Act (ESA-listed). Annual management measures allow for adjusting quotas among fishing periods on an impact neutral basis, as calculated by the Salmon Technical Team (STT).

Inseason Actions

The table below lists the inseason actions announced in this document in the order the actions were adopted, although the effective dates of the actions do not necessarily maintain the same chronological order.

Inseason action No. | Effective date | Salmon fishery affected
12 | July 12, 2013 | Commercial fishery from the Queets River, Washington to Cape Falcon, Oregon.
13 | July 19, 2013 | Recreational fishery from Queets River, Washington to Leadbetter Point, Washington (Westport subarea).
14 | July 21, 2013 | Commercial fishery from the Oregon/California Border to Humboldt South Jetty (California Klamath Management Zone or CA-KMZ).
15 | July 3, 2013 | Commercial fishery from the U.S./Canada Border to Queets River, Washington.
16 | August 1, 2013 | Commercial fishery from the U.S./Canada Border to the U.S./Mexico Border.
17 | August 1, 2013 | Commercial fishery from the Oregon/California Border to Humboldt South Jetty (California Klamath Management Zone or CA-KMZ).
18 | August 4, 2013 | Recreational fishery from Queets River, Washington to Leadbetter Point, Washington (Westport subarea).
19 | August 3, 2013 | Commercial fishery from the Oregon/California Border to Humboldt South Jetty (California Klamath Management Zone or CA-KMZ).
20 | August 3, 2013 | Commercial fishery from Humbug Mountain, Oregon to the Oregon/California Border (Oregon Klamath Management Zone or OR-KMZ).
21 | August 9, 2013 | Commercial fishery from the Queets River, Washington to Cape Falcon, Oregon.
22 | August 9, 2013 | Commercial fishery from the U.S.Canada Border to Cape Falcon, Oregon.
23 | August 9, 2013 | Commercial fishery from the U.S./Canada Border to Cape Falcon, Oregon.
24 | August 10, 2013 | Commercial fishery from Cape Falcon, Oregon to the U.S./Mexico Border.
25 | August 10, 2013 | Recreational fishery from U.S./Canada Border to Cape Alava, Washington (Neah Bay subarea) and Cape Alava to Queets River, Washington (La Push subarea).
26 | September 1, 2013 | Recreational fishery from Cape Falcon, Oregon to Humbug Mountain, Oregon.
27 | August 15, 2013 | Commercial fishery from the U.S./Canada Border to Queets River, Washington.
28 | August 23, 2013 | Commercial fishery from Queets River to Cape Falcon, Oregon.
29 | August 23, 2013 | Recreational fishery from the U.S./Canada Border to Cape Falcon, Oregon.
30 | August 28, 2013 | Commercial and Recreational fisheries from the U.S./Canada Border to Cape Falcon, Oregon.
31 | August 30, 2013 | Commercial fishery from Queets River, Washington to Cape Falcon, Oregon.
32 | September 1, 2013 | Recreational fishery from Queets River, Washington to Cape Falcon, Oregon.
33 | September 6, 2013 | Commercial fishery from Queets River, Washington to Cape Falcon, Oregon.
34 | September 12, 2013 | Recreational fishery from Cape Falcon, Oregon to Humbug Mountain, Oregon.

Inseason Action #12

The Regional Administrator (RA) consulted with representatives of the Council, Washington Department of Fish and Wildlife (WDFW) and Oregon Department of Fish and Wildlife (ODFW) on July 11, 2013.

The information considered during this consultation related to catch-to-date and fishery effort in the commercial salmon fishery north of Cape Falcon. Inseason action #12 adjusted the landing limit for Chinook salmon in the commercial salmon fishery from the Queets River to Cape Falcon. This action was taken to allow increased access to salmon within the available quota. On July 11, 2013, the states recommended increasing the Chinook salmon landing limit from 50 Chinook salmon per vessel per open period to 100 Chinook salmon per vessel per open period in the commercial fishery from Queets River to Cape Falcon; the RA concurred. Inseason action #12 took effect on July 12, 2013 and remained in effect until superseded by inseason action #21 which took effect on August 9, 2013. Inseason action to modify retention regulations is authorized by 50 CFR 660.409(b)(1)(ii).

Inseason Action #13

The RA consulted with representatives of the Council, WDFW, and ODFW on July 15, 2013.

The information considered during this consultation related to catch-to-date and fishery effort in the recreational salmon fishery north of Cape Falcon. Inseason action #13 adjusted the days of week for the recreational salmon fishery in the Westport subarea from 5 days per week (Sunday through Thursday) to 7 days per week. This action was taken to allow increased access to salmon within the available quota. On July 15, 2013, the states recommended increasing the days per week the recreational fishery was open in the Westport subarea; the RA concurred. Inseason action #13 took effect on July 19, 2013 and remained in effect to the end of the season. Inseason action to modify recreational fishing days per calendar week is authorized by 50 CFR 660.409(b)(1)(iii).

Inseason Action #14

The RA consulted with representatives of the Council, ODFW, and California Department of Fish and Wildlife (CDFW) on July 19, 2013.

The information considered during this consultation related to catch-to-date and fishery effort in the commercial salmon fishery in the CA-KMZ. Inseason action #14 closed the commercial salmon fishery in the CA-KMZ at 11:59 p.m., July 21, 2013. This action was taken to prevent exceeding the July quota for Chinook salmon in the area. On July 19, 2013, the states recommended closing the fishery; the RA concurred. Inseason action #14 took effect on July 21, 2013 and remained in effect through July 31, 2013. Inseason action to close a fishery when the quota is projected to be caught is authorized by 50 CFR 660.409(a)(1).

Inseason Action #15

The RA consulted with representatives of the Council, WDFW, ODFW, and CDFW on July 25, 2013.

The information considered during this consultation related to catch-to-date and fishery effort in the commercial salmon fishery north of Cape Falcon. Inseason action #15 adjusted the landing limit for Chinook salmon in the commercial salmon fishery north of Queets River from 50 Chinook salmon to 40 Chinook salmon, per vessel per open period. This action was taken to conserve available Chinook salmon quota in the area. On July 25, 2013, the states recommended this action; the RA concurred. Inseason action #15 took effect on July 26, 2013 and remained in effect until the fishery north of Queets River was closed on August 15, 2013 by inseason action #27. Inseason action to modify retention regulations is authorized by 50 CFR 660.409(b)(1)(ii).

Inseason Action #16

The RA consulted with representatives of the Council, WDFW, ODFW, and CDFW on July 25, 2013.

The information considered during this consultation related to catch-to-date of halibut caught incidental to the commercial salmon fishery north and south of Cape Falcon. Inseason action #16 adjusted the landing and possession limit for incidental halibut from 15 halibut per trip to 5 halibut per trip. This action was taken to slow landings of incidental halibut to avoid exceeding the quota set by the International Pacific Halibut Commission. On July 25, 2013, the states recommended this action; the RA concurred. Inseason action #16 took effect on August 1, 2013 and remained in effect until superseded by inseason action #23 on August 9, 2013. Inseason action to modify retention regulations is authorized by 50 CFR 660.409(b)(1)(ii).

Inseason Action #17

The RA consulted with representatives of the Council, ODFW, and CDFW on July 26, 2013.

The information considered during this consultation related to Chinook salmon landings in the CA-KMZ and remaining quota available to transfer to August. Inseason action #17 adjusted the commercial salmon quota for August in the CA-KMZ from 1,500 Chinook salmon to 1,692 Chinook salmon. This action was taken to allow access to unutilized quota from the July fishery within allowable impacts to constraining stocks. The July fishery had an adjusted quota of 2,547 Chinook salmon; actual landings in July were estimated to be 2,302 Chinook salmon; therefore, 245 Chinook salmon quota from July remained. The STT calculated that transferring 245 Chinook salmon from the July fishery to the August fishery in the CA-KMZ on an impact-neutral basis for Klamath River fall Chinook salmon (KRFC) would result in an addition of 192 Chinook salmon to the August quota, which was set preseason at 1,500 Chinook salmon. KRFC is the constraining stock for CA-KMZ fisheries to meet ACLs and is used as a surrogate for impacts to ESA-listed California coastal Chinook salmon. On July 26, 2013, the states recommended adopting an adjusted quota of 1,692 Chinook salmon for the August commercial fishery in the CA-KMZ; the RA concurred. Inseason action #17 took effect on August 1, 2013 and remained in effect through August 31, 2013. Inseason action to modify quotas and/or fishing seasons is authorized by 50 CFR 660.409(b)(1)(i).

Inseason Action #18

The RA consulted with representatives of the Council, WDFW, and ODFW on August 1, 2013.

The information considered during this consultation related to catch-to-date and fishery effort in the recreational salmon fishery north of Cape Falcon. Inseason action #18 modified the daily bag limit in the recreational salmon fishery in the Westport subarea to allow retention of up to two Chinook salmon per day; previously, retention of only one Chinook salmon per day was allowed. This action was taken to allow greater access to available Chinook salmon quota. On August 1, 2013, the states recommended this action; the RA concurred. Inseason action #18 took effect on August 4, 2013 and remained in effect to the end of the season. Inseason action to modify recreational bag limits is authorized by 50 CFR 660.409(b)(1)(iii).

Inseason Action #19

The RA consulted with representatives of the Council, ODFW, and CDFW on August 2, 2013.

The information considered during this consultation related to catch-to-date and fishery effort in the commercial salmon fishery in the CA-KMZ. Inseason action #19 closed the commercial salmon fishery in the CA-KMZ at 11:59 p.m., August 3, 2013. This action was taken to prevent exceeding the August quota for Chinook salmon in the area. On August 2, 2013, the states recommended closing the fishery; the RA concurred. Inseason action #19 took effect on August 3, 2013 and remained in effect through August 31, 2013. Inseason action to close a fishery when the quota is projected to be caught is authorized by 50 CFR 660.409(a)(1).

Inseason Action #20

The RA consulted with representatives of the Council, ODFW, and CDFW on August 2, 2013.

The information considered during this consultation related to Chinook salmon landings in the OR-KMZ in June and July, and remaining quota available to transfer from July to August. Salmon management measures allow for transferring unused quota in the OR-KMZ from one fishing period to the next; such adjustments are made on an impact-neutral basis to account for impacts on constraining stocks. KRFC is the constraining stock for OR-KMZ fisheries to meet ACLs and as a surrogate for impacts to ESA-listed California coastal Chinook salmon. Inseason action #20 adjusted the commercial salmon quotas for July and August in the OR-KMZ and supersedes inseason action #10 (76 FR 50347). This action was taken to allow access to unutilized quota from the June and July fisheries within allowable impacts to constraining stocks.

Inseason action #10, which took effect on July 3, 2013 (76 FR 50347), adjusted the July quota for the commercial salmon fishery in the OR-KMZ, based on remaining quota from June. Catch data available at the time of the consultation for inseason action #10 (July 3, 2013) indicated 1,525 of the 4,000 Chinook salmon quota for June was caught, leaving 2,475 Chinook salmon quota remaining; the STT calculated the impact neutral rollover to July at 1,782 Chinook salmon. Inseason action #10 adjusted the July quota from 3,000 Chinook salmon to 4,782, accordingly. During the August 2 consultation for inseason action #20, updated catch information from June was provided; corrected catch for June was 1,556 Chinook salmon, rather than 1,525, leaving 2,444 Chinook salmon remaining on the June quota rather than 2,475. The STT calculated the revised impact neutral rollover to July at 1,760. Therefore, the revised adjusted July quota was 4,760 Chinook salmon.

July landings were estimated to be 3,962 Chinook salmon; therefore, 798 Chinook salmon from the July quota remained. The STT calculated that transferring 798 Chinook salmon from the July fishery to the August fishery in the OR-KMZ on an impact neutral basis for KRFC would result in an addition of 714 Chinook salmon to the August quota, which was set preseason at 2,000 Chinook salmon.

On August 2, 2013, the states recommended adopting a revised adjusted quota of 4,760 Chinook salmon for July and an adjusted quota of 2,714 Chinook salmon for August in the commercial fishery in the OR-KMZ; the RA concurred. Inseason action #20 took effect on August 2, 2013 and remained in effect to the end of the season. Inseason action to modify quotas and/or fishing seasons is authorized by 50 CFR 660.409(b)(1)(i).

Inseason Action #21

The RA consulted with representatives of the Council, WDFW, ODFW, and CDFW on August 8, 2013.

The information considered during this consultation related to catch-to-date and fishery effort in the commercial salmon fishery north of Cape Falcon. Inseason action #21 adjusted the landing limit for Chinook salmon in the commercial salmon fishery from Queets River to Cape Falcon from 100 Chinook salmon to 150 Chinook salmon per vessel per open period. This action superseded inseason action #12, and was taken to taken to allow increased access to salmon within the available quota. On August 8, 2013, the states recommended increasing the Chinook salmon landing limit from 100 Chinook salmon per vessel per open period to 150 Chinook salmon per vessel per open period in the commercial fishery from Queets River to Cape Falcon; the RA concurred. Inseason action #21 took effect on August 9, 2013 and remained in effect until superseded by inseason action #28 which took effect on August 23, 2013. Inseason action to modify retention regulations is authorized by 50 CFR 660.409(b)(1)(ii).

Inseason Action #22

The RA consulted with representatives of the Council, WDFW, ODFW, and CDFW on August 8, 2013.

The information considered during this consultation related to catch-to-date and fishery effort in the commercial salmon fishery north of Cape Falcon. Inseason action #22 adjusted the landing limit for coho salmon in the commercial salmon fishery from U.S./Canada Border to Cape Falcon from 40 to 80 marked coho per vessel per open period. This action was taken to allow increased access to salmon within the available quota. On August 8, 2013, the states recommended the adjustment to the coho landing limit in the commercial salmon fishery north of Cape Falcon from 40 to 80 marked coho per vessel per open period; the RA concurred. Inseason action #22 took effect on August 9, 2013 and remained in effect until superseded by inseason action #28 which took effect on August 23, 2013. Inseason action to modify retention regulations is authorized by 50 CFR 660.409(b)(1)(ii).

Inseason Actions #23 and #24

The RA consulted with representatives of the Council, WDFW, ODFW, and CDFW on August 8, 2013.

The information considered during this consultation related to catch-to-date of halibut caught incidental to the commercial salmon fishery north and south of Cape Falcon. Inseason action #23 closed retention of incidental halibut north of Cape Falcon effective August 9, 2013, the start of a new fishing period north of Cape Falcon. Inseason action #24 closed retention of incidental halibut south of Cape Falcon effective August 10, 2013 and required landing and delivery of incidental halibut to be completed by 11:59 p.m., August 11, 2013; the fishery south of Cape Falcon was open seven days per week, and required time for vessels to return to port to land the catch. These actions were taken due to projected attainment of the quota set by the International Pacific Halibut Commission. On August 8, 2013, the states recommended these actions; the RA concurred. Inseason action #23 took effect on August 9, 2013 and Inseason action #24 took effect on August 10; both inseason actions remained in effect until the end of the season. Inseason action to close a fishery when the quota is projected to be caught is authorized by 50 CFR 660.409(a)(1).

Inseason Action #25

The RA consulted with representatives of the Council, WDFW, ODFW, and CDFW on August 8, 2013.

The information considered during this consultation related to catch-to-date and fishery effort in the recreational salmon fishery north of Cape Falcon. Inseason action #25 modified the bag limit in the recreational salmon fishery in the Neah Bay and La Push subareas to allow retention of no more than one Chinook salmon per day; previously the regulations allowed retention of two Chinook salmon per day. This action was taken to conserve remaining Chinook salmon quota in these areas. On August 8, 2013, the states recommended this action; the RA concurred. Inseason action #25 took effect on August 10, 2013 and remained in effect until superseded by inseason action #29 on August 23, 2013. Inseason action to modify recreational bag limits is authorized by 50 CFR 660.409(b)(1)(iii).

Inseason Action #26

The RA consulted with representatives of the Council, WDFW, ODFW, and CDFW on August 8, 2013.

The information considered during this consultation related to quota remaining from the July mark-selective recreational coho fishery from Cape Falcon to the Oregon/California border. The annual management measures stated that remaining coho quota from the July mark-selective fishery would be transferred on an impact-neutral basis to the September non-selective coho quota from Cape Falcon to Humbug Mountain. The July mark-selective fishery had a quota of 10,500 marked coho salmon; 6,580 marked coho were caught, leaving 3,920 on the July mark-selective coho quota. The STT calculated that transferring 3,920 mark-selective coho from July to the September non-mark-selective fishery on an impact-neutral basis for Oregon coast and lower Columbia River natural coho stocks would result in adding 3,580 to the September quota. Inseason action #26 adjusted the non-mark-selective coho quota, set preseason at 16,000, to 19,580 for the September recreational fishery in the area from Cape Falcon to Humbug Mountain. This action was taken to allow access to unutilized coho salmon quota from the July mark-selective fishery, on an impact-neutral basis. On August 8, 2013, the states recommended adjusting the non-mark-selective coho quota from 16,000 to 19,580 for the September recreational salmon fishery from Cape Falcon to Humbug Mountain; the RA concurred. Inseason action #26 took effect on September 1, 2013 and remained in effect until the end of the season. Inseason action to modify quotas and/or fishing seasons is authorized by 50 CFR 660.409(b)(1)(i).

Inseason Action #27

The RA consulted with representatives of the Council, WDFW, and ODFW on August 15, 2013.

The information considered during this consultation related to catch-to-date and effort in the commercial salmon fishery north of Cape Falcon. Inseason action #27 closed the commercial salmon fishery from U.S./Canada Border to Queets River on August 15, 2013. This action was taken to prevent exceeding the Chinook salmon quota in the area. On August 15, 2013 the states recommended closing the commercial salmon fishery north of Queets River immediately to prevent exceeding the area quota; the RA concurred. Inseason action #27 took effect on August 15, 2013 and remained in effect until the end of the season. Inseason action to close a fishery when the quota is projected to be caught is authorized by 50 CFR 660.409(a)(1).

Inseason Action #28

The RA consulted with representatives of the Council, WDFW, and ODFW on August 22, 2013.

The information considered during this consultation related to catch-to-date and effort in the commercial salmon fishery north of Cape Falcon. Inseason action #28 closed the commercial salmon fishery from Queets River to Cape Falcon on August 23, 2013. This action was taken to prevent exceeding the Chinook salmon quota in the area and permit the states to update landing data to properly assess remaining quota. On August 22, 2013, the states recommended closing the commercial salmon fishery north of Cape Falcon to prevent exceeding the area quota; the RA concurred. Inseason action #28 took effect August 23, 2013 and remained in effect until superseded by inseason action #31, which took effect August 30, 2013. Inseason action to close a fishery when the quota is projected to be caught is authorized by 50 CFR 660.409(a)(1).

Inseason Action #29

The RA consulted with representatives of the Council, WDFW, and ODFW on August 22, 2013.

The information considered during this consultation related to catch-to-date and effort in the recreational salmon fishery north of Cape Falcon. Inseason action #29 changed the daily bag limits in the recreational salmon fisheries in Columbia River, Neah Bay, and La Push subareas to allow retention of two Chinook salmon; previously these fisheries allowed retention of one Chinook salmon. Inseason action #29 superseded inseason action #25 for Neah Bay and La Push subareas. This action was taken to allow greater access to available Chinook salmon quota in the recreational fishery. On August 22, 2013 the states recommended these bag limit changes; the RA concurred. Inseason action #29 took effect August 23, 2013 and remained in effect for the rest of the season. Inseason action to modify recreational bag limits is authorized by 50 CFR 660.409(b)(1)(iii).

Inseason Action #30

The RA consulted with representatives of the Council, WDFW, and ODFW on August 28, 2013.

Inseason action #30 adjusted quotas in the commercial and recreational fisheries north of Cape Falcon by transferring available quotas between the commercial and recreational fisheries on an impact-neutral basis as determined by the STT. Quota may be transferred between the recreational and commercial fisheries north of Cape Falcon if there is agreement among the areas' representatives on the Salmon Advisory Subpanel (SAS), and if the transfer would not result in exceeding the preseason impact expectations on any stocks (78 FR 25865, May 3, 2013). The SAS agreed to transfer 3,200 Chinook salmon from the recreational fishery quota to the commercial fishery quota; the STT calculated the impact-equivalent transfer as 2,000 Chinook salmon added to the commercial fishery quota. The SAS agreed to transfer 4,000 marked coho salmon from the commercial fishery quota to the recreational fishery quota; the STT determined that no impact-equivalent adjustment was required. The SAS agreed to distribute the transferred coho quota among the subareas as follows: 1,000 to Columbia River subarea, 1,480 to Westport subarea, 1,100 to La Push subarea, and 420 to Neah Bay subarea. These actions were taken to extend the commercial and recreational fishing seasons north of Cape Falcon without exceeding the available quotas; without these quota transfers, some fisheries would close earlier than planned preseason. On August 28, 2013, the states recommended these quota transfers; the RA concurred. Inseason action took effect August 28, 2013 and remained in effect through the end of the season. Inseason action to modify quotas and/or fishing seasons is authorized by 50 CFR 660.409(b)(1)(i).

Inseason Action #31

The RA consulted with representatives of the Council, WDFW, and ODFW on August 28, 2013.

The information considered in this consultation related to catch-to-date and effort in the commercial salmon fishery north of Cape Falcon. Inseason action #31 reopened the commercial salmon fishery from Queets River to Cape Falcon, Friday through Tuesday, beginning August 30, 2013, with a landing and possession limit of 35 Chinook salmon and 40 marked coho per vessel per open period. This action superseded inseason action #28 which closed the fishery on August 23 until quota could be adjusted under inseason action #30. On August 28, 2013 the states recommended reopening the commercial salmon fishery; the RA concurred. Inseason action #31 took effect on August 30, 2013 and remained in effect until superseded by inseason action #33 on September 6, 2013. Inseason action to modify fishing seasons and retention regulations is authorized by 50 CFR 660.409(b)(1)(i) and 50 CFR 660.409(b)(1)(ii).

Inseason Action #32

The RA consulted with representatives of the Council, WDFW, and ODFW on August 28, 2013.

The information considered in this consultation related to catch-to-date and effort in the recreational salmon fishery north of Cape Falcon. Inseason action #32 modified the recreational bag limit in the Columbia River and Westport subareas to allow retention of unmarked coho. This action was taken to allow access to available coho quota without exceeding impacts on unmarked coho. On August 28, 2013 the states recommended allowing retention on unmarked coho in the Columbia River and Westport subareas; the RA concurred. Inseason action #32 took effect September 1, 2013 in Columbia River subarea and September 6, 2013 in Westport subarea, and remained in effect until the end of the season. Inseason action to modify retention regulations is authorized by 50 CFR 660.409(b)(1)(ii).

Inseason Action #33

The RA consulted with representatives of the Council, WDFW, and ODFW on September 5, 2013.

The information considered in this consultation related to catch-to-date and effort in the commercial salmon fishery north of Cape Falcon. Inseason action #33 superseded inseason action #31 and modified the landing and possession limit in the commercial salmon fishery in the area from Queets River to Cape Falcon from 35 Chinook salmon and 40 marked coho to 75 Chinook salmon and 50 marked coho per vessel per open period. This action was taken to allow access to the remaining quota. On September 5, 2013 the states recommended this action; the RA concurred. Inseason action #33 took effect on September 6, 2013 and remained in effect until the season closed on September 17, 2013. Inseason action to modify retention regulations is authorized by 50 CFR 660.409(b)(1)(ii).

Inseason Action #34

The RA consulted with representatives of the Council, ODFW, and CDFW on September 11, 2013.

The information considered in this consultation related to catch-to-date and effort in the recreational salmon fishery south of Cape Falcon. Inseason action #34 modified the daily bag limit in the recreational salmon fishery from Cape Falcon to Humbug Mountain to all salmon, two fish per day, seven days per week; originally coho could only be retained Thursday through Saturday. This action was taken to allow greater access to available coho quota. On September 11, 2013 the states recommended this action; the RA concurred. Inseason action #34 took effect on September 12, 2013 and remained in effect until the season closed on September 30, 2013. Inseason action to modify recreational bag limits is authorized by 50 CFR 660.409(b)(1)(iii).

All other restrictions and regulations remain in effect as announced for the 2013 ocean salmon fisheries and 2014 fisheries opening prior to May 1, 2014 (78 FR 25865, May 3, 2013) and subsequent inseason actions (78 FR 30780, May 23, 2013; 78 FR 35153, June 12, 2013; and 78 FR 50347, August 19, 2013).

The RA determined that the best available information indicated that catch and effort projections supported the above inseason actions recommended by the states of California, Oregon, and Washington. The states manage the fisheries in state waters adjacent to the areas of the U.S. exclusive economic zone in accordance with these Federal actions. As provided by the inseason notice procedures of 50 CFR 660.411, actual notice of the described regulatory actions was given, prior to the time the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (78 FR 25865, May 3, 2013), the West Coast Salmon Fishery Management Plan (Salmon FMP), and regulations implementing the Salmon FMP, 50 CFR 660.409 and 660.411. Prior notice and opportunity for public comment was impracticable because NMFS and the state agencies had insufficient time to provide for prior notice and the opportunity for public comment between the time the catch and effort projections were developed and fisheries impacts calculated, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: November 21, 2013.
Sean F. Corson,
Acting Deputy Director, Office of Sustainable Fisheries, National Marine Fisheries Service.

[FR Doc. 2013-28316 Filed 11-25-13; 8:45 am]

BILLING CODE 3510-22-P